DEPARTMENT OF LABOR

Employment and Training Administration

Notice of Determinations Regarding Eligibility To Apply for Worker Adjustment Assistance and NAFTA Transitional Adjustment Assistance

In accordance with section 223 of the Trade Act of 1974, as amended, the Department of Labor herein presents summaries of determinations regarding eligibility to apply for trade adjustment assistance for workers (TA-W) issued during the period of December, 2001.

In order for an affirmative determination to be made and a certification of eligibility to apply for worker adjustment assistance to be issued, each of the group eligibility requirements of section 222 of the Act must be met.

(1) That a significant number or proportion of the workers in the workers' firm, or an appropriate subdivision thereof, have become totally or partially separated,

(2) That sales or production, or both, of the firm or subdivision have decreased absolutely, and

(3) That increases of imports of articles like or directly competitive with articles produced by the firm or appropriate subdivision have contributed importantly to the separations, or threat thereof, and to the absolute decline in sales or production.

Negative Determinations for Worker Adjustment Assistance

In each of the following cases the investigation revealed that criterion (3) has not been met. A survey of customers indicated that increased imports did not contribute importantly to worker separations at the firm.

TA-W-38,813; Blount, Inc., Prentice, WI

TA-W-39,398; Boss Industries, Inc., Erie, PA

TA-W-39,578; McLaughlin Co., A Div. Of Michigan Rivet Corp., Petoskey, MI

TA-W-39,983; Edgewater Steel Ltd, Oakmont, PA

TA-W-39,831 and A; Chipman Union, Inc., Union Point, GA and Bryan Scott Plant, Greensboro, GA

TA-W-40,073; Micro Tool and Manufacturing, Inc., Meadville, PA

TA-W-40,124; Krones, Inc., Franklin, WI

TA-W-40,321; Fibermark, Inc., Rochester, MI

TA-W-39,541; Signature Software, Inc., Hood River, OR

TA-W-39,091; Heraeus Electro-Nite, Philadelphia, PA

TA-W-39,760; Kingfield Wood Products, Kingfield, ME

TA-W-39,802; Superior Dye, Passaic, NJ

TA-W-39,835B; Dyersburg Fabrics, Trenton Mills, Trenton, TN

TA-W-39,872; De-Sta-Co Manufacturing, Arden, NC

TA-W-40,153; Burkart Foam, Inc., Cairo, IL

TA-W-39,835B; Trenton Mills, Trenton, TN

In the following cases, the investigation revealed that the criteria for eligibility have not been met for the reasons specified.

Increased imports did not contribute importantly to worker separations at the firm.

TA-W-39,987; GSI Lumonics, Inc., Maple Grove, MN

TA-W-40,087; Spicer Axle, Inc., Columbia, MO

TA-W-40,136; Emerson Process Management, Regulator Div., McKinney, TX

TA-W-40,246; Incoe Corp., North Plant, Frankfort, MI

TA-W-40,167A; Axiohm Transation Solutions, Inc., IPB Div., Ithaca, NY

TA-W-39,686; J and K Sales Co., Inc., Pawtucket, RI

TA-W-40,117; Drake Extrusion, Spartanburg, SC

TA-W-40,151; Sara Lee Hosiery, Hanes Hosiery Div., Yadkinville, NC

TA-W-40,342; Stinson Seafood 2001, Inc., Formerly Stinson Seafood 2000, Inc., Belfast, ME

The workers firm does not produce an article as required for certification under Section 222 of the Trade Act of 1974.

TA-W-39,861; Swimwear Anywhere, Inc., Farmingdale, NY

TA-W-39,518G; Spartan International, Inc., Spartan International Retail Business, Charlotte, NC

The investigation revealed that criteria (2) has not been met. Sales or production did not decline during the relevant period as required for certification.

TA-W-40,280 and A; Munro and Company, Inc., Dewitt Footwear, Dewitt, AR and Munro and Company, Inc., Clarendon Footwear, Clarendon, AR

Affirmative Determinations for Worker Adjustment Assistance

The following certifications have been issued; the date following the company name and location of each determination references the impact date for all workers of such determination.

TA-W-40,167; Axiohm Transaction Solutions, Inc., American Magnetics Div., Cypress, CA: September 20, 2000.

TA-W-40,484; Bristol Compressor Sparta, Inc., Sparta, NC: October 22, 2000.

TA-W-39,208; RMG Foundry, LLC, Mishawaka, IN: April 23, 2000.

TA-W-39,202; ECK Industries, Inc., Manitowoc, WI: April 26, 2001.

TA-W-39,307; Creative Embroidery Corp., Bloomfield, NJ: May 7, 2000.

TA-W-39,497; Superior Electric, Bristol, CT: June 7, 2000.

All workers engaged in employment related to the production of VR motors and stators and;

All workers engaged in employment related to the production of motors (except VR motors and stators), stepper drives, adjustment speed drives and voltage control flash regulator equipment are denied.

TA-W-39,737; Rebel Screeners, Inc., Sharon, TN: July 17, 2000.

TA-W-39,828; GSC Management Co., Enterprise, AL: July 27, 2000.

TA-W-39,835 & A; Dyersburg Fabrics, Main Plant, Dyersburg, TN and Knitting Plant, Dyersburg, TN: July 19, 2000.

TA-W-39,860; Sheftex, Sheftex USA, Inc., St. Johnsbury, VT: August 3, 2000.

TA-W-39,918; Beloit Corp., Rockton, IL: August 18, 2000.

TA-W-39,984; Hollander Home Fashions, Tignall, GA: August 23, 2000.

TA-W-40,031; Laclede Steel Co., Vandalia, IL: August 28, 2000.

TA-W-40,209; Laclede Steel Co., Fairless Hills, PA: September 26, 2000.

TA-W-40,224; Munsey Products, Inc., Little Rock, AR: October 1, 2000.

TA-W-40,233; Garan Manufacturing, Adamsville, TN: October 14, 2001.

TA-W-40,322; The Santee Co., LLC, Eden, NC: October 9, 2000.

TA-W-40,336; Plaid Clothing Co, Inc., Erlanger, KY: June 4, 2001.

TA-W-40,344; Bradford Electronics, Inc., Bradford, PA: November 2, 2000.

TA-W-40,346; Freeman Products, A Div. Of Trophy Holdings, Inc., Knox, IN: November 1, 2000.

TA-W-39,518; Spartan International, Inc., Cherokee Finishing Plant, Gaffney, SC and A; Sparton Plant, Spartanburg, SC, B; Rosemont Plant, Jonesville, SC, C; King Finishing Plant, Dover, GA, D; King Mill, August, GA, E; Cleveland Mills, Lawndale, NC, F; Cleveland-Caroknit, Jefferson, SC, H; Spartan International Sales Office, New York, NY and I: Corporate Office, Spartansburg, SC: June 2, 2000.

TA-W-40,067; Stanly Knitting Mills, Inc., Headwear Div., Oakboro, NC: September 11, 2000.

TA-W-40,095; Galina Bouquet, Inc., New York, NY: August 31, 2000.

TA-W-40,137; American Trouser, Inc., Cutting Department, Columbus, MS: September 12, 2000.

TA-W-40,167; Fujikura Composite America, Inc., Vista, CA: September 26, 2000.

TA-W-40,193; Wilson Sporting Goods, Racquet Sports, Fountain Inn, SC: September 24, 2000.

TA-W-40,215; Armstrong-Hunt, Inc., Milton, FL: September 26, 2000.

TA-W-40,351; Libro Shirt Corp., Lykens, PA: November 1, 2000.

TA-W-40,061; Parker Hannifin Corp., Brass Department, Otsego, MI: September 4, 2000.

TA-W-39,901; Providence Metallizing Co., Inc., Pawtucket, RI: January 30, 2001.

TA-W-39,570; Tyrolit North America, Westboro, MA: February 2, 2001.

Also, pursuant to Title V of the North American Free Trade Agreement Implementation Act (P.L. 103-182) concerning transitional adjustment assistance hereinafter called (NAFTA-TAA) and in accordance with section 250(a), Subchapter D, Chapter 2, Title II, of the Trade Act as amended, the Department of Labor presents summaries of determinations regarding eligibility to apply for NAFTA-TAA issued during the month of December, 2001.

In order for an affirmative determination to be made and a certification of eligibility to apply for NAFTA-TAA the following group eligibility requirements of Section 250 of the Trade Act must be met:

(1) That a significant number or proportion of the workers in the workers' firm, or an appropriate subdivision thereof, (including workers in any agricultural firm or appropriate subdivision thereof) have become totally or partially separated from employment and either—

(2) That sales or production, or both, of such firm or subdivision have decreased absolutely,

(3) That imports from Mexico or Canada of articles like or directly competitive with articles produced by such firm or subdivision have increased, and that the increased imports contributed importantly to such workers' separations or threat of separation and to the decline in sales or production of such firm or subdivision; or

(4) That there has been a shift in production by such workers' firm or subdivision to Mexico or Canada of articles like or directly competitive with articles which are produced by the firm or subdivision.

Negative Determinations NAFTA-TAA

In each of the following cases the investigation revealed that criteria (3) and (4) were not met. Imports from Canada or Mexico did not contribute importantly to workers' separations. There was no shift in production from the subject firm to Canada or Mexico during the relevant period.

NAFTA-TAA-05440; Munro and Company, Inc., Clarendon Footwear, Clarendon, AR

NAFTA-TAA-05119; Rebel Screener, Inc., Sharon, TN

NAFTA-TAA-05441; Munro and Company, Inc., Dewitt Footwear, Dewitt, AR

NAFTA-TAA-05065; Taylor Wharton, Harsco Gas and Fluid Control, Harrisburg, PA

NAFTA-TAA-05310; Laclede Steel, Vandalia, IL

NAFTA-TAA-05330; Micro Tool and Manufacturing, Inc., Meadville, PA

NAFTA-TAA-05344; Drake Extrusion, Spartanburg, SC

NAFTA-TAA-05368; Burkart Foam, Inc., Cairo, IL

NAFTA-TAA-05384; Sara Lee Hosiery, Hanes Hosiery Div., Yadkinville, NC

NAFTA-TAA-05400; Incoe Corp., North Plant, Frankfort, MI

NAFTA-TAA-05403; Garan Manufacturing, Adamsville, TN

NAFTA-TAA-05467; Commercial Warehouse and Cartage, Inc., El Paso, TX

NAFTA-TAA-05526; Haskell Senator International, Haskell Div., Verona, PA

NAFTA-TAA-05536; Libro Shirt Corp., Lykens, PA

NAFTA-TAA-04832; ECK Industries, Inc., Manitowoc, WI

Affirmative Determinations NAFTA-TAA

NAFTA-TAA-05490; Johnson Controls, Inc., Reynoldsburg, OH: October 17, 2000.

NAFTA-TAA-05341; Miller Bag, Freeman Plant, Freeman, SD: September 24, 2000.

NAFTA-TAA-05509 & A; HMG Intermark Worldwide Manufacturing, Inc., Site R-1, Reading, PA and Site R-5, Reading, PA: October 26, 2000.

NAFTA-TAA-05517; Armstrong-Hunt, Inc., Milton, FL: October 14, 2000.

NAFTA-TAA-05533 & A; Port Townsend Paper Corp., Port Townsend, WA and Portland, OR

NAFTA-TAA-05539; Indiana Knitwear Corp., Willacy Apparel, Lyford, TX: November 9, 2000.

NAFTA-TAA-05540; Plaid Clothing Co., Inc., Erlanger, KY: June 4, 2001.

NAFTA-TAA-05469 & A, B, C; Aalfs Manufacturing, Inc., Mena, AR, Arkadelphia, AR, Malvern, AR, Glenwood, AR: October 22, 2000. TX: August 17, 2000.

NAFTA-TAA-05469D; Aalfs Manufacturing, Sioux City, IA: November 11, 2001.

NAFTA-TAA-05140 & A; Dyersburg Fabrics, Main Plant, Dyersburg, TN and Knitting Plant, Dyersburg, TN: July 20, 2000.

NAFTA-TAA-05198; Sheftex, Sheftex USA, Inc., St. Johnsbury, VT: August 13, 2000.

NAFTA-TAA-05415; The Santee Co., LLC, Eden, NC: October 9, 2000.

NAFTA-TAA-05456; Apparel Finishers, Inc., Athens, GA: October 19, 2000.

I hereby certify that the aforementioned determinations were issued during the month of December, 2001. Copies of these determinations are available for inspection in Room C-5311, U.S. Department of Labor, 200 Constitution Avenue, NW., Washington, DC 20210 during normal business hours or will be mailed to persons who write to the above address.

Dated: December 27, 2001.
Edward A. Tomchick,
Director, Division of Trade Adjustment Assistance.

[FR Doc. 02-714 Filed 1-10-02; 8:45 am]

BILLING CODE 4510-30-M